NATIONAL AERONAUTICS AND SPACE ADMINISTRATION

[Notice (12-053)]

NASA Advisory Council; Audit, Finance and Analysis Committee; Meeting

AGENCY: National Aeronautics and Space Administration.

ACTION: Notice of meeting.

SUMMARY: In accordance with the Federal Advisory Committee Act, Public Law 92-463, as amended, the National Aeronautics and Space Administration (NASA) announces a meeting of the Audit, Finance and Analysis Committee of the NASA Advisory Council (NAC).

DATES: Monday, July 23, 2012, 9:00 a.m.-4:45 p.m.; and Tuesday, July 24, 2012, 10:00 a.m.-1:00 p.m.; Local Time.

ADDRESSES: On July 23, 2012: Goddard Space Flight Center (GSFC), Building 1, Room E100H, 8800 Greenbelt Road, Greenbelt, MD 20771-0001. On July 24, 2012: GSFC, Building 1, Room E100D, 8800 Greenbelt Road, Greenbelt, MD 20771-0001. (Note that visitors will first need to go to the GSFC Main Gate to gain access.)

FOR FURTHER INFORMATION CONTACT: Ms. Charlene Williams, Office of the Chief Financial Officer, NASA Headquarters, Washington, DC, 20546, email charlene.williams-1@nasa.gov or phone (202) 358-2183.

SUPPLEMENTARY INFORMATION: The agenda for the meeting includes briefings on the following topics:

• General Financial Management

• Financial Statement Audit

• Unfunded Environmental Liability (Financial Statement Audit)

• Information Technology (Financial Statement Audit)

• Financial Systems

• Financial Management—Goddard Space Flight Center

• Joint Session with the NAC Human Exploration and Operations (HEO) Committee, and NAC Commercial Space Committee; on Commercial Orbital Transportation Services/Commercial Crew Development and an Overview of Contracting Options The Joint Session with the NAC HEO Committee, and the NAC Commercial Space Committee, will take place on Tuesday, July 24, 2012, 10:00 a.m.-1:00 p.m., Local Time, at NASA Goddard Space Flight Center (GSFC), Building 1, Room E100D, 8800 Greenbelt Road, Greenbelt, MD 20771. Any interested person may call the USA toll-free conference call number (877) 951-7311, pass code 9070300, to participate in this meeting by telephone. The WebEx link is https://nasa.webex.com/, the meeting number is 390 981 454, and the password is July 23+24.

It is imperative that the meeting be held on these dates to accommodate the scheduling priorities of the key participants. All attendees will be required to sign a register and to comply with NASA security requirements. Visitors must show valid State or Federal issued picture ID, green card, or passport, before receiving an access badge to enter into GSFC and must state that they are attending the NAC's Audit, Finance and Analysis Committee meeting in Building 1. All U.S. citizens and green card holders desiring to attend must provide their full name, company affiliation (if applicable), and citizenship to Charlene Williams via email at charlene.williams-1@nasa.gov or by telephone at (202) 358-2183 no later than close of business on July 16, 2012. Foreign Nationals must provide the following information: full name, gender, date/place of birth, citizenship, home address, visa information (number, type, expiration date), passport information (number, country of issue, expiration date), employer/affiliation information (name of institution, title/position, address, country of employer, telephone, email address), and an electronically scanned or faxed copy of their passport and visa to Charlene Williams via email at charlene.williams-1@nasa.gov or by fax at (202) 358-4336 no later than close of business on July 11, 2012. If the above information is not received by the noted dates, attendees should expect a minimum delay of two (2) hours. All visitors to this meeting will report to the GSFC Main Gate where they will be processed through security prior to entering GSFC. For security questions on the day of the meeting, please call Debbie Brasel at (301) 286-6876 or email Deborah.A.Brasel@nasa.gov.

Susan M. Burch,
Acting, Advisory Committee Management Officer, National Aeronautics and Space Administration.

[FR Doc. 2012-15859 Filed 6-27-12; 8:45 am]

BILLING CODE 7510-13-P